DEPARTMENT OF COMMERCE

International Trade Administration

[C-533-825]

Polyethylene Terephthalate Film, Sheet and Strip From India: Extension of Time Limit for Preliminary Results of Countervailing Duty New Shipper Review

AGENCY: Import Administration, International Trade Administration, Department of Commerce.

DATES: Effective Date: December 20, 2010.

FOR FURTHER INFORMATION CONTACT: Elfi Blum, Import Administration, International Trade Administration, U.S. Department of Commerce, 14th Street and Constitution Avenue, NW., Washington, DC 20230; telephone: (202) 482-0197.

Background

On March 2, 2010, the Department of Commerce (the Department) initiated a new shipper review under the countervailing duty order on polyethylene terephthalate film, sheet and strip from India for the period January 1, 2009, through December 31, 2009. See Polyethylene Terephthalate Film, Sheet and Strip from India: Initiation of Antidumping Duty and Countervailing Duty New Shipper Reviews, 75 FR 10758 (March 9, 2010). This new shipper review covers one producer and exporter of the subject merchandise to the United States: SRF Limited.

On August 27, 2010, the Department published a notice of extension for the preliminary results of this new shipper review until November 22, 2010. See Polyethylene Terephthalate Film, Sheet and Strip From India: Extension of Time Limit for Preliminary Results of Countervailing Duty New Shipper Review, 75 FR 52717 (August 27, 2010). On November 12, 2010, the Department published a notice in the Federal Register to further extend the deadline for the preliminary results to December 14, 2010. See Polyethylene Terephthalate Film, Sheet, and Strip From India: Extension of Time Limit for Preliminary Results of Countervailing Duty New Shipper Review, 75 FR 69400 (November 12, 2010).

Extension of Time Limit for the Preliminary Results

Section 751(a)(2)(B)(iv) of the Tariff Act of 1930, as amended (the Act), and section 351.214(i)(1) of the Department's regulations require the Department to issue the preliminary results of a new shipper review within 180 days after the date on which the review was initiated, and the final results of the review within 90 days after the date on which the preliminary results were issued. However, if the Department concludes that a new shipper review is extraordinarily complicated, section 751(a)(2)(B)(iv) of the Act and section 351.214(i)(2) of the Department's regulations allow the Department to extend the 180-day period to 300 days, and to extend the 90-day period to 150 days. In its August 27 and November 12, 2010, Federal Register publications the Department determined that this new shipper review is extraordinarily complicated because of issues pertaining to the bona fides of this new shipper and to certain programs not previously examined and evaluated under this order. Because this is an extraordinarily complicated new shipper review, we need further time to analyze fully the subsidy programs under review.

Therefore, the Department is further extending the deadline for completion of the preliminary results of this new shipper review by an additional 7 days. Accordingly, the deadline for the completion of these preliminary results is now no later than December 21, 2010.

This notice is issued and published pursuant to sections 751(a)(2)(B)(iv) and 777(i)(1) of the Act.

Dated: December 14, 2010.
Christian Marsh,
Deputy Assistant Secretary for Antidumping and Countervailing Duty Operations.

[FR Doc. 2010-31883 Filed 12-17-10; 8:45 am]

BILLING CODE 3510-DS-P